FEDERAL FINANCIAL INSTITUTIONS EXAMINATION COUNCIL

[Docket No. AS12-06]

Appraisal Subcommittee Notice of Meeting

AGENCY: Appraisal Subcommittee of the Federal Financial Institutions Examination Council

ACTION: Notice of Meeting

Description: In accordance with Section 1104(b) of Title XI of the Financial Institutions Reform, Recovery, and Enforcement Act of 1989, as amended, notice is hereby given that the Appraisal Subcommittee (ASC) will meet in closed session:

Location: OCC—250 E Street SW., Room 8C, Washington, DC 20219.

Date: April 11, 2012.

Time: Immediately following the ASC open session.

Status: Closed.

Matters To Be Considered:

March 14, 2012 minutes—Closed Session.

Preliminary discussion of State Compliance Reviews.

Dated: March 30, 2012.
James R. Park,
Executive Director.

[FR Doc. 2012-8130 Filed 4-4-12; 8:45 am]

BILLING CODE P